DEPARTMENT OF TRANSPORTATION

Federal Highway Administration

Environmental Impact Statement; Livingston County, MI

AGENCY: Federal Highway Administration (FHWA), DOT.

ACTION: Notice of intent.

SUMMARY: The FHWA is issuing this notice to advise the public that a Tier 2 Environmental Impact Statement (EIS) will be prepared for construction impacts of the widening of M-59 from I-96 to US-23 in Livingston County, Michigan. A Record of Decision (ROD) for the Tier 1 EIS right-of-way preservation was signed on May 31, 2002.

FOR FURTHER INFORMATION CONTACT: Mr. Abdelmoez Abdalla, Environmental Program Manager, Federal Highway Administration, 315 W. Allegan Street, Room 207, Lansing, Michigan 48933, Telephone (517) 702-1820 or Mr. Paul W. McAllister, Project Coordination Unit, Bureau of Transportation Planning, PO Box 30050, Lansing, Michigan 48909, Telephone (517) 335-2622.

SUPPLEMENTARY INFORMATION: The FHWA, in cooperation with the Michigan Department of Transportation (MDOT) will prepare a Tier 2 EIS for the widening of M-59 from I-96 to US-23 in Livingston County, Michigan. The corridor is approximately 12.8 miles long. The area long M-59 is currently experiencing intense development pressure and traffic congestion problems. The proposed project will accommodate the projected year 2025 traffic volume and improve motorist safety. The current facility is two lanes. The project alternatives include: (1) The no build, (2) widening from two to five lanes, and (3) widening from two lanes to a four-lane boulevard, with some five-lane areas. The widening will occur within a 300-foot right-of-way corridor preserved by a Tier 1 EIS along the existing route of M-59. Scoping documents describing the proposed action and soliciting comments will be sent to appropriate Federal, state, local agencies, private organizations, and citizens who have previously expressed or are known to have interest in this proposal. A public information meeting was held on November 7, 2001, to provide the public the opportunity to discuss the proposed action. A public hearing will also be held. Public notice will be given of the time and place of the public hearing. The Tier 2 Draft EIS will be available for public and agency review and comment prior to the public hearing. No formal scoping meeting is scheduled at this time. Comments and suggestions are invited from all interested parties to insure that the full range of issues related to this proposed action are addressed and all significant issues are identified. Questions or comments concerning this proposed action and the EIS should be directed to the FHWA address provided above.

(Catalog of Federal Domestic Assistance Program Number 20.205, Highway Research, Planning, and Construction. The regulations implementing Executive Order 12372 regarding intergovernmental consultation on Federal programs and activities apply to this program.)

Issued on: August 5, 2002.
James J. Steele,
Division Administrator, Lansing, Michigan.

[FR Doc. 02-20721 Filed 8-14-02; 8:45 am]

BILLING CODE 4410-22-M